DEPARTMENT OF THE INTERIOR

National Park Service

[NPS-WASO-NRNHL-14993; PPWOCRADI0, PCU00RP14.R50000]

National Register of Historic Places; Notification of Pending Nominations and Related Actions

Nominations for the following properties being considered for listing or related actions in the National Register were received by the National Park Service before February 1, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by March 11, 2014. Before including your address, phone number, email address, or other personal identifying information in your comment, you should be aware that your entire comment—including your personal identifying information—may be made publicly available at any time. While you can ask us in your comment to withhold your personal identifying information from public review, we cannot guarantee that we will be able to do so.

Dated: February 6, 2014.
J. Paul Loether,
Chief, National Register of Historic Places/National Historic Landmarks Program.

COLORADO

Larimer County

Milner—Schwarz House, 710 S. Railroad Ave., Loveland, 14000058

Las Animas County

Emerick, Charles, House, 1211 Nevada Ave., Trinidad, 14000059

Rio Blanco County

Meeker I.O.O.F. Lodge—Valentine Lodge No. 47, 400 Main St., Meeker, 14000060

GEORGIA

Cobb County

Root, William and Hannah, House, 145 Denmead St., NW., Marietta, 14000061

MASSACHUSETTS

Bristol County

Griffin Street Cemetery, S. 2nd & Griffin Sts., New Bedford, 14000062

Suffolk County

Highland School, 36 Grovers Ave., Winthrop, 14000063

NEW JERSEY

Atlantic County

ROBERT J. WALKER (shipwreck and remains), Address Restricted, Atlantic City, 14000064

Sussex County

Millville Historic and Archaeological District, Cty. Rds. 521 & 653, Millville & Weider Rds., Montague Township, 14000065

NEW YORK

Madison County

Riester, Dorothy, House and Studio, 3883 Stone Quarry Rd., Cazenovia, 14000066

VIRGINIA

Arlington County

Arlington House Historic District, Roughly bounded by Sheridan, Humphreys, Ord & Weitzel Drs., Lee Ave., Arlington, 14000067

A request to move has been received for the following resource:

OHIO

Hamilton County

Probasco Fountain, (Samuel Hannaford and Sons TR in Hamilton County) Clifton Ave., Cincinnati, 80003077

[FR Doc. 2014-03786 Filed 2-21-14; 8:45 am]

BILLING CODE 4312-51-P